DEPARTMENT OF COMMERCE

Foreign-Trade Zones Board

[Docket 60-2004]

Proposed Foreign-Trade Zone—Washington County, OH, Application and Public Hearing

An application has been submitted to the Foreign-Trade Zones (FTZ) Board (the Board) by the Southeastern Ohio Port Authority, an Ohio public corporation, to establish a general-purpose foreign-trade zone at sites in Washington County, Ohio, adjacent to the Charleston, West Virginia, Customs port of entry. The FTZ application was submitted pursuant to the provisions of the FTZ Act, as amended (19 U.S.C. 81a-81u), and the regulations of the Board (15 CFR part 400). It was formally filed on December 17, 2004. The applicant is authorized to make the proposal under Ohio Revised Code Section 1743.11.

The proposed zone would be the second general-purpose zone in the Charleston, West Virginia, Customs port of entry area. The existing zone is as follows: FTZ 229, Charleston,West Virginia (Grantee: West Virginia Economic Development Authority, Board Order 954, 02/13/98).

The proposed zone consists of 5 sites (340 acres), located in Washington County, Ohio. They are as follows: Site 1 (147 acres)—Wetz Warehousing, Inc., at the intersection of State Route #7 and Ohio County Road #10, Marietta; Site 2 (17 acres)—Marietta Industrial Park, 117 Industry Road, Marietta; Site 3 (13 acres)—Two Rivers Corporation property, 900-1100 Green Street, Marietta; Site 4 (20 acres)—Cytec Industries, Inc. property, 1405 Green Street, Marietta; and, Site 5 (143 acres)—Reno Industrial Complex, 27823 State Route #7, Marietta. The majority of sites are owned by Wetz Investment, LLC, Alliance Industries, Inc., and Cytec Industries, Inc.

The application indicates a need for zone services in the Washington County, Ohio, area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on January 25, 2005, at 11 a.m., at the Washington State Community College, Community Room, 710 Colegate Drive, Marietta, Ohio 45750.

Public comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW., Washington, DC 20005; or

2. Submissions via U.S. Postal Service: Foreign-Trade Zones Board, U.S. Department of Commerce, FCB-4100W, 1401 Constitution Avenue, NW., Washington, DC 20230.

The closing period for their receipt is February 28, 2005. Rebuttal comments in response to material submitted during the foregoing period may be submitted during the subsequent 15-day period (to March 14, 2005).

A copy of the application will be available for public inspection at the Office of the Foreign-Trade Zones Board's Executive Secretary at address No. 1 listed above and the Office of the Southeastern Ohio Port Authority, 205 Putnam Street, Marietta, Ohio 45750.

Dated: December 20, 2004.
Dennis Puccinelli,
Executive Secretary.

[FR Doc. 04-28432 Filed 12-28-04; 8:45 am]

BILLING CODE 3510-DS-P